NUCLEAR REGULATORY COMMISSION

Advisory Committee on the Medical Uses of Isotopes: Meeting Notice

AGENCY: U.S. Nuclear Regulatory Commission.

ACTION: Notice of Meeting.

SUMMARY: The U.S. Nuclear Regulatory Commission (NRC) will convene a public teleconference meeting of the Advisory Committee on the Medical Uses of Isotopes (ACMUI) on May 27, 2021, to discuss the NRC staff's assessment of medical related events for fiscal year 2020 and the ACMUI Abnormal Occurrence Subcommittee's draft report on the proposed limited revisions to abnormal occurrence criteria for medical events. The meeting agenda is subject to change. Meeting information, including a copy of the agenda and related documents, will be available on the ACMUI's Meetings and Related Documents web page at https://www.nrc.gov/reading-rm/doc-collections/acmui/meetings/2021.html. The agenda and related meeting documents may also be obtained by contacting Ms. Kellee Jamerson using the information below.

DATES: The teleconference meeting will be held on Thursday, May 27, 2021, 1:00 p.m. to 5:00 p.m. Eastern Daylight Time.

Date | Webinar information
May 27, 2021 | Link: https://usnrc.webex.com Event number: 199 574 5068.

Public Participation: The meeting will be held as a webinar using Cisco WebEx. Any member of the public who wishes to participate in any portion of this meeting should register in advance of the meeting by accessing the provided link above. Upon successful registration, a confirmation email will be generated providing the telephone bridge line and a link to join the webinar on the day of the meeting. Members of the public should also monitor the NRC's Public Meeting Schedule at https://www.nrc.gov/pmns/mtg for any meeting updates. If there are any questions regarding the meeting, persons should contact Ms. Jamerson using the information below.

Contact Information: Kellee Jamerson, email: Kellee.Jamerson@nrc.gov, telephone: 301-415-7408.

Conduct of the Meeting

The ACMUI Chair, Darlene F. Metter, M.D., will preside over the meeting. Dr. Metter will conduct the meeting in a manner that will facilitate the orderly conduct of business. The following procedures apply to public participation in the meeting:

1. Persons who wish to provide a written statement should submit an electronic copy to Ms. Jamerson at the contact information listed above. All written statements must be received by May 24, 2021, three business days prior to the meeting, and must pertain to the topics on the agenda for the meeting.

2. Questions and comments from members of the public will be permitted during the meeting, at the discretion of the ACMUI Chairman.

3. The draft transcript and meeting summary will be available on ACMUI's website https://www.nrc.gov/reading-rm/doc-collections/acmui/meetings/2021.html on or about July 9, 2021.

4. Persons who require special services, such as those for the hearing impaired, should notify Ms. Jamerson of their planned participation.

This meeting will be held in accordance with the Atomic Energy Act of 1954, as amended (primarily Section 161a); the Federal Advisory Committee Act (5 U.S.C. App); and the Commission's regulations in 10 CFR part 7.

Dated at Rockville, Maryland, this 15th day of April 2021.
For the U.S. Nuclear Regulatory Commission.
Russell E. Chazell,
Federal Advisory Committee Management Officer.

[FR Doc. 2021-08172 Filed 4-20-21; 8:45 am]

BILLING CODE 7590-01-P